DEPARTMENT OF JUSTICE

Office on Violence Against Women; Notice of Request for Nominations for New Members for the Task Force on Research on Violence Against American Indian and Alaska Native Women

AGENCY: Office on Violence Against Women, United States Department of Justice.

ACTION: Notice of request for nominations for new members for the Task Force on Research on Violence Against American Indian and Alaska Native Women.

SUMMARY: The Office on Violence Against Women of the U.S. Department of Justice requests recommendations for individuals to serve as members on a federal advisory committee, the Task Force on Research on Violence Against American Indian and Alaska Native Women (Task Force). Recommendations should consist of a cover letter recommending the individual and explaining the individual's qualifications to serve on the Task Force, as well as a copy of the individual's resume or curriculum vitae. Self-recommendations are not accepted. If you would like to make a membership recommendation for this federal advisory committee, please send your recommendation to the email address or contact person listed below.

ADDRESSES: Nominations may be submitted by email to OVW.taskforce@usdoj.gov or by mail to: Laura L. Rogers, Acting Director, Office on Violence Again Women, U.S. Department of Justice, 145 N Street NE, Washington, DC 20530 by September 13, 2019.

SUPPLEMENTARY INFORMATION: The Task Force was authorized by Section 904(a)(3) of the Violence Against Women and Department of Justice Reauthorization Act of 2005 (Pub. L. 109-162) and is subject to the requirements of the Federal Advisory Committee Act. The Task Force provides advice and recommendations on the development and implementation of a program of research that examines violence against Indian women in Indian Country and Alaska Native villages, including domestic violence, dating violence, sexual assault, stalking, murder, and sex trafficking, and evaluates the effectiveness of federal, state, tribal, and local responses to these crimes.

By statute, Task Force members must be representatives of one of the following entities: Tribal governments; national tribal domestic violence and sexual assault non-profit organizations; or national tribal organizations. Task Force candidates should be nominated by the authorized representative of the listed governments or organizations (i.e., tribal council or executive director). Task Force members are expected to: Attend meetings that usually last 1-2 days; be prepared to discuss materials distributed in advance of each meeting; and draft written recommendations and reports, as necessary. Additional information on the Task Force can be found on the OVW and NIJ websites at: https://www.justice.gov/ovw/section-904-task-force and https://www.nij.gov/topics/tribal-justice/vaw-research/pages/task-force.aspx.

While OVW has previously solicited and received nominations for new Task Force members, OVW would like to expand OVW's pursuit for experience and expertise and solicit additional nominations for new members to supplement the nominations that OVW has previously received. OVW is particularly interested in individuals with law enforcement, prosecutorial and research experience.

For further information contact: Sherriann C. Moore, Deputy Director for Tribal Affairs, Office on Violence Against Women, United States Department of Justice, 145 N Street NE, Suite 10W.121, Washington, DC 20530.

Dated: August 12, 2019.
Mary E. Powers,
Acting Director, Deputy Director for Policy, Office on Violence Against Women.

[FR Doc. 2019-17776 Filed 8-16-19; 8:45 am]

BILLING CODE 4410-FX-P